DEPARTMENT OF ENERGY

Federal Energy Regulatory Commission

[Docket Nos. RP01-245-014, RP01-253-007, CP01-34-004, CP01-103-003, CP01-368-003, and RP02-171-005]

Transcontinental Gas Pipe Line Corporation; Notice of Refund Report Filing

December 31, 2002.

Take notice that on December 20, 2002, Transcontinental Gas Pipe Line Corporation (Transco) tendered the refund report filing in Docket Nos. RP01-245-000, et al.

Transco states that on November 27, 2002, Transco submitted refunds (or surcharges) to all affected customers in the referenced proceedings.

Transco states that it has served copies of Attachment 1 to the filing and certain summary schedule (Appendix A to the filing) on the recipients of the refund (or surcharge) and their respective State Commissions.

Any person desiring to protest said filing should file a protest with the Federal Energy Regulatory Commission, 888 First Street, NE., Washington, DC 20426, in accordance with Section 385.211 of the Commission's Rules and Regulations. All such protests must be filed on or before January 9, 2003. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 03-237 Filed 1-3-03; 8:45 am]

BILLING CODE 6717-01-P